DEPARTMENT OF LABOR

Employment and Training Administration

[TA-W-40, 243]

Paulson Wire Rope Corp., Sunbury, PA; Including Employees of Paulson Wire Rope Corp. Located in California, Georgia, Indiana and Texas; Amended Certification Regarding Eligibility To Apply for Worker Adjustment Assistance

In accordance with section 223 of the Trade Act of 1974 (19 USC 2273) the Department of Labor issued a Certification of Eligibility to Apply for Worker Adjustment Assistance on January 14, 2002, applicable to workers of Paulson Wire Rope Corp., Sunbury, Pennsylvania. The notice was published in the Federal Register on January 31, 2002 (67 FR 4750).

At the request of the company, the Department reviewed the certification for workers of the subject firm. New information shows that worker separations occurred involving employees of the Sunbury, Pennsylvania facility of Paulson Wire Rope Corp. located in California, Georgia, Indiana, and Texas. These employees were engaged in employment related to the production of wire rope at the Sunbury, Pennsylvania location of the subject firm.

Based on these findings, the Department is amending this certification to include employees of the Sunbury, Pennsylvania location of Paulson Wire Rope Corp. located in California, Georgia, Indiana and Texas.

The intent of the Department's certification is to include all workers of Paulson Wire Rope Corp. adversely affected by increased imports of wire rope.

The amended notice applicable to TA-W-40,243 is hereby issued as follows:

All workers of Paulson Wire Rope Corp., Sunbury, Pennsylvania, including employees of Paulson Wire Rope Corp., Sunbury, Pennsylvania, located in California, Georgia, Indiana, and Texas, who become totally or partially separated from employment on or after October 4, 2000, through January 14, 2004, are eligible to apply for adjustment assistance under Section 223 of the Trade Act of 1974.

Signed at Washington, DC., this 12th day of April, 2002.
Linda G. Poole,
Certifying Officer, Division of Trade Adjustment Assistance.

[FR Doc. 02-10896 Filed 5-1-02; 8:45 am]

BILLING CODE 4510-30-M